INTERNATIONAL TRADE COMMISSION

[Inv. No. 337-TA-460]

In the Matter of Certain Sortation Systems, Parts Thereof, and Products Containing Same; Order

The Commission instituted this patent-based investigation, which concerns allegations of unfair acts in violation of section 337 of the Tariff Act of 1930 in the importation and sale of certain sortation systems, parts thereof, and products containing same, on July 25, 2001. 66 FR 38741. The complainants, Rapistan Systems Advertising Corporation and Siemens Dematic Corporation, named Vanderlande Industries Nederland BV and Vanderlande Industries, Inc. as respondents. On January 3, 2002, the then presiding administrative law judge (ALJ) (Judge Terrill) issued an ID (Order No. 10), which extended the target date for completion of the investigation from October 25, 2002, to March 10, 2003. On February 6, 2002, the Commission determined to review and vacate the ID. Consistent with the Commission's vacatur order, the ALJ on February 13, 2002, issued Order No. 13 reestablishing the original target date of October 25, 2002.

On March 6, 2002, the ALJ issued an order (Order No. 20) extending the target date for completion of the investigation by two months, from October 25, 2002, to December 25, 2002. On May 2, 2002, the Commission issued an order assigning this investigation to Judge Charles E. Bullock. On May 8, 2002, Judge Bullock issued an ID (Order No. 26) extending the target date by one month, from December 25, 2002, until January 25, 2003. Pursuant to Commission rule 210.42(a)(1)(i), the ALJ's final ID on the merits would be due four months earlier, i.e., by September 25, 2002.

Because Judge Bullock only recently became an ALJ at the Commission and this is his first section 337 investigation, it is reasonable to allow him more time for preparation of the final ID. Accordingly, we are, pursuant to rule 201.4(b), waiving the four-month requirement of rule 210.42(a)(1)(i) for good and sufficient reason and setting October 25, 2002, as the date by which the ALJ must issue his final ID in this investigation.

By order of the Commission.
Issued: May 22, 2002.
Marilyn R. Abbott,
Secretary.

[FR Doc. 02-13322 Filed 5-28-02; 8:45 am]

BILLING CODE 7020-02-P